DEPARTMENT OF HEALTH AND HUMAN SERVICES

Food and Drug Administration

[FDA 225-04-4004]

Memorandum of Understanding Between the Food and Drug Administration and the Harvard-Massachusetts Institute of Technology Division of Health Sciences and Technology

Correction

In notice document 04-17513 appearing on page 46157 in the issue of Monday, August 2, 2004, make the following correction:

In the third column, after the file line, insert the following pages:

[FR Doc. C4-17513 Filed 8-20-04; 8:45 am]

BILLING CODE 1505-01-D

DEPARTMENT OF THE TREASURY

Internal Revenue Service

26 CFR Part 1

[REG-171386-03]

RIN 1545-BD16

Time and Manner of Making Section 163(d)(4)(B) Election To Treat Qualified Dividend Income as Investment Income

Correction

In proposed rule document 04-17797 beginning on page 47395 in the issue of Thursday, August 5, 2004 make the following correction:

On page 47395, in the third column, the subject heading is corrected to read as set forth above.

[FR Doc. C4-17797 Filed 8-20-04; 8:45 am]

BILLING CODE 1505-01-D